DEPARTMENT OF TRANSPORTATION

Federal Aviation Administration

14 CFR Part 71

Proposed Modification of the Asheville, NC, Class C Airspace Area; Public Meeting

AGENCY: Federal Aviation Administration (FAA), DOT.

ACTION: Notice of meeting.

SUMMARY: This notice announces a fact-finding informal airspace meeting to solicit information from airspace users and others concerning a plan to modify the Class C airspace area at Asheville, NC. The modification would ensure that arriving aircraft are contained within Class C airspace while flying instrument approaches to runways 16 and 34 at the Asheville Regional Airport. The purpose of the meeting is to provide interested parties an opportunity to present views, recommendations, and comments to be considered by the FAA in developing a proposal. All comments received during the meeting will be considered prior to issuance of a notice of proposed rulemaking.

DATES: The informal airspace meeting will be held on Tuesday, October 14, 2008, beginning at 6:30 p.m. Comments must be received on or before November 14, 2008.

ADDRESSES: The meeting will be held at the O.D. Lacey Griffin Building, 21 Aviation Way, Fletcher, NC 28732.

Comments: Send comments on the proposal to Mark Ward, Manager, Operations Support Group, Air Traffic Organization Eastern Service Area, Federal Aviation Administration, P.O. Box 20636, Atlanta, Georgia 30320.

FOR FURTHER INFORMATION CONTACT: Grey Pelkey, Manager, Asheville Airport Traffic Control Tower, Asheville Airport, 61 Terminal Drive Suite 2, Fletcher, NC 28732; Telephone (828) 684-0421.

SUPPLEMENTARY INFORMATION:

Meeting Procedures

(a) The meeting will be open to all persons on a space-available basis. There will be no admission fee or other charge to attend and participate.

(b) The meeting will be informal in nature and will be conducted by one or more representatives of the FAA Eastern Service Area. A representative from the FAA will present an informal briefing on the planned modification to the Class C airspace at Asheville, NC. Each participant will be given an opportunity to deliver comments or make a presentation, although a time limit may be imposed. Only comments concerning the plan to modify the Class C airspace area at Asheville, NC, will be accepted.

(c) Each person wishing to make a presentation to the FAA panel will be asked to sign in and estimate the amount of time needed for such presentation. This will permit the panel to allocate an appropriate amount of time for each presenter. The meeting will not be adjourned until everyone on the list has had an opportunity to address the panel.

(d) Position papers or other handout material relating to the substance of these meetings will be accepted. Participants wishing to submit handout material should present an original and two copies (3 copies total) to the presiding officer. There should be additional copies of each handout available for other attendees.

(e) The meeting will not be formally recorded. However, a summary of comments made at the meeting will be filed in the docket.

Agenda for the Meeting

—Sign-in.

—Presentation of Meeting Procedures.

—FAA explanation of the proposed Class C modifications.

—Public Presentations and Discussions.

—Closing Comments.

Authority: 49 U.S.C. 106(g), 40103, 40113, 40120; E.O. 10854, 24 FR 9565, 3 CFR, 1959-1963 Comp., p. 389.

Issued in Washington DC, on September 2, 2008.
Edith V. Parish,
Manager, Airspace and Rules Group.

[FR Doc. E8-21216 Filed 9-11-08; 8:45 am]

BILLING CODE 4910-13-P